Proclamation 8928 of January 21, 2013

National Day of Hope and Resolve, 2013

By the President of the United States of America

A Proclamation

Four years ago, the American people came together to chart a new course through an uncertain hour. We chose hope over fear and hard work during hardship, confident that the age-old values that had guided our Nation through even its darkest days would be sufficient to meet the trials of our time.

Together, we have brought a decade of war toward a responsible end. We have saved our economy from collapse and fought for a future where everyone has an equal chance at opportunity. Millions of men, women, and children have made service their mission, reaffirming that America's greatest strength lies not in might or wealth, but in the bonds we share with one another.

Today, I have sworn an oath to preserve the fundamental freedoms and protections that are the lasting birthright of all who call this land home. I stand humbled by the responsibilities entrusted to me by our people, and I pray God's grace will see us through the tests we will surely face in the days ahead. But even as I assume once more the solemn duty of this Presidency, let us also remember that the oath I spoke shares much in common with those taken by every service member and every immigrant, and with the pledge we make before our flag. These are the words of America's citizens, and they represent our greatest hope.

On the opposite end of the National Mall from where I delivered my address, a preacher once told us “we cannot walk alone.” Empowered by our faith in each other and united by the purpose that binds our fates as one, let us learn again that most enduring lesson. Let us renew our resolve to meet the challenges of our age together. And when our grandchildren reflect on the history we leave, let them say we did what was required of us, that our words were true to our Founders' dreams for a young Republic and our actions foretold the dawn of a new and brighter day.

NOW, THEREFORE, I, BARACK OBAMA, President of the United States of America, by the authority vested in me by the Constitution and laws of the United States, do hereby proclaim January 21, 2013, a National Day of Hope and Resolve. I call upon all Americans to join together in courage, in compassion, and in purpose to more fully realize the eternal promises of our founding and the more perfect Union that must remain ever within our reach.

IN WITNESS WHEREOF, I have hereunto set my hand this twenty-first day of January, in the year of our Lord two thousand thirteen, and of the Independence of the United States of America the two hundred and thirty-seventh.

[FR Doc. 2013-01637

Filed 1-23-13; 11:15 am]

Billing code 3295-F3